DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for seven of its 13 national marine sanctuary advisory councils and Northwestern Hawaiian Islands Coral Reef Ecosystem Reserve Advisory Council (advisory councils). Vacant seats, including positions (i.e., primary and alternate), for each of the advisory councils are listed in this notice under Supplementary Information. Applicants are chosen based upon their particular expertise and experience in relation to the seat for which they are applying; community and professional affiliations; views regarding the protection and management of marine or Great Lakes resources; and possibly the length of residence in the area affected by the sanctuary. Applicants chosen as members or alternates should expect to serve two or three-year terms, pursuant to the charter of the specific national marine sanctuary advisory council or Northwestern Hawaiian Islands Coral Reef Ecosystem Reserve Advisory Council.

DATES: Applications are due before or by Wednesday, November 30, 2016.

ADDRESSES: Application kits are specific to each advisory council. As such, application kits must be obtained from and returned to the council-specific addresses noted below.

• Gray's Reef National Marine Sanctuary Advisory Council: Becky Shortland, NOAA Gray's Reef National Marine Sanctuary, 10 Ocean Science Circle, Savannah, GA 31411; 912-598-2381; email Becky.Shortland@noaa.gov; or download applications from http://graysreef.noaa.gov/management/sac/council_news.html.

• Greater Farallones National Marine Sanctuary Advisory Council: Jenn Gamurot, Greater Farallones National Marine Sanctuary, 991 Marine Drive, The Presidio, San Francisco, CA 94129; 415-970-5252; email Jenn.Gamurot@noaa.gov; or download applications from http://farallones.noaa.gov/manage/sac.html.

• Hawaiian Islands Humpback Whale National Marine Sanctuary Advisory Council: Kate Spidalieri, NOAA Inouye Regional Center, NOS/ONMS/HIHWNMS/Kate Spidalieri, 1845 Wasp Boulevard, Building 176, Honolulu, HI 96818; 240-533-0679; email Kate.Spidalieri@noaa.gov; or download applications from http://hawaiihumpbackwhale.noaa.gov/council/council_app_accepting.html.

• Monitor National Marine Sanctuary Advisory Council: William Sassorossi, Monitor National Marine Sanctuary, 100 Museum Drive, Newport News, VA 23606; 757-591-7329; email William.Sassorossi@noaa.gov; or download applications from http://monitor.noaa.gov/advisory/news.html.

• National Marine Sanctuary of American Samoa Advisory Council: Joseph Paulin, National Marine Sanctuary of American Samoa, Tauese P.F. Sunia Ocean Center, P.O. Box 4318, Pago Pago, American Samoa 96799; 684-633-6500 extension 226; email Joseph.Paulin@noaa.gov; or download applications from http://americansamoa.noaa.gov/.

• Northwestern Hawaiian Islands Coral Reef Ecosystem Reserve Advisory Council: Allison Ikeda, NOAA Inouye Regional Center, NOS/ONMS/PMNM/Allison Ikeda, 1845 Wasp Boulevard, Building 176, Honolulu, HI 96818; 808-725-5818; email Allison.Ikeda@noaa.gov; or download applications from www.papahanaumokuakea.gov/council/.

• Olympic Coast National Marine Sanctuary Advisory Council: Karlyn Langjahr, 115 East Railroad Avenue, Suite 301, Port Angeles, WA 98362; 360-457-6622 extension 31; email Karlyn.Langjahr@noaa.gov; or download applications from http://olympiccoast.noaa.gov/involved/sac/sac_welcome.html.

• Stellwagen Bank National Marine Sanctuary Advisory Council: Elizabeth Stokes, Stellwagen Bank National Marine Sanctuary, 175 Edward Foster Road, Scituate, MA 02066; 781-545-8026 extension 201; email Elizabeth.Stokes@noaa.gov; or download applications from http://stellwagen.noaa.gov/.

FOR FURTHER INFORMATION CONTACT: For further information on a particular national marine sanctuary advisory council, please contact the individual identified in the Addresses section of this notice.

SUPPLEMENTARY INFORMATION: ONMS serves as the trustee for a network of underwater parks encompassing more than 600,000 square miles of marine and Great Lakes waters from Washington state to the Florida Keys, and from Lake Huron to American Samoa. The network includes a system of 13 national marine sanctuaries and Papahānaumokuākea and Rose Atoll marine national monuments. National marine sanctuaries protect our nation's most vital coastal and marine natural and cultural resources, and through active research, management, and public engagement, sustain healthy environments that are the foundation for thriving communities and stable economies. One of the many ways ONMS ensures public participation in the designation and management of national marine sanctuaries is through the formation of advisory councils. National marine sanctuary advisory councils are community-based advisory groups established to provide advice and recommendations to the superintendents of the national marine sanctuaries on issues including management, science, service, and stewardship; and to serve as liaisons between their constituents in the community and the sanctuary. Additional information on ONMS and its advisory councils can be found at http://sanctuaries.noaa.gov. Materials related to the purpose, policies, and operational requirements for advisory councils can be found in the charter for a particular advisory council (http://sanctuaries.noaa.gov/management/ac/council_charters.html) and the National Marine Sanctuary Advisory Council Implementation Handbook (http://sanctuaries.noaa.gov/management/ac/acref.html).

The following is a list of the vacant seats, including positions (i.e., primary or alternate), for each of the advisory councils currently seeking applications for primary members and alternates:

Gray's Reef National Marine Sanctuary Advisory Council: K-12 Education (Primary).

Greater Farallones National Marine Sanctuary Advisory Council: Mendocino/Sonoma County Community-at-Large (Alternate); Youth (Primary).

Hawaiian Islands Humpback Whale National Marine Sanctuary Advisory Council: Maui County (Alternate); Molokai Island (Primary); Molokai Island (Alternate); Native Hawaiian (Primary).

Monitor National Marine Sanctuary Advisory Council: Economic Development (Primary).

National Marine Sanctuary of American Samoa Advisory Council: Education (Primary); Fishing (Primary); Youth (Primary).

Northwestern Hawaiian Islands Coral Reef Ecosystem Reserve Advisory Council: Commercial Fishing (Primary); Commercial Fishing (Alternate); Research (Alternate).

Olympic Coast National Marine Sanctuary Advisory Council: Citizen-at-Large (Primary); Citizen-at-Large (Alternate); Research (Primary); Research (Alternate).

Stellwagen Bank National Marine Sanctuary Advisory Council: Business/Industry (Alternate); Conservation (Primary); Education (Alternate); Marine Transportation (Primary); Marine Transportation (Alternate); Mobile Gear Commercial Fishing (Primary); Recreational Fishing (Primary).

Authority: 16 U.S.C. 1431 et seq.

(Federal Domestic Assistance Catalog Number 11.429 Marine Sanctuary Program)

Dated: October 3, 2016.
John Armor,
Acting Director, Office of National Marine Sanctuaries, National Ocean Service, National Oceanic and Atmospheric Administration.

[FR Doc. 2016-26326 Filed 10-31-16; 8:45 am]

BILLING CODE 3510-NK-P